DEPARTMENT OF ENERGY

Golden Field Office; Development and Maintenance of Testing Standards for Solar Energy Systems

AGENCY: Department of Energy.

ACTION: Issuance of Funding Opportunity Announcement DE-PS36-04GO94005.

SUMMARY: The U.S. Department of Energy (DOE) is announcing its intention to seek applications for financial assistance for development and maintenance of standards for testing solar thermal energy systems. Through a single financial assistance award (Cooperative Agreement), DOE intends to provide financial support to advance the widespread application of solar energy technologies. Applications are sought from organizations, or teams of organizations, that are experienced in the development and maintenance of testing regimes, certification of results and performance, and the establishment of relevant performance standards, particularly concerned with thermal efficiency.

DATES: The Funding Opportunity Announcement will be issued January 26, 2004.

ADDRESSES: To obtain a copy of the announcement, interested parties should access the DOE Golden Field Office Home Page at http://www.go.doe.gov/funding.html, click on the word “access.” The link will open the Industry Interactive Procurement System (IIPS) Web site and provide instructions on using IIPS. The announcement can also be obtained directly through IIPS at http://e-center.doe.gov by browsing opportunities by Contract Activity, for those announcements issued by the Golden Field Office. DOE will not issue paper copies of the announcement.

IIPS provides the medium for disseminating announcements, receiving financial assistance applications, and evaluating the applications in a paperless environment. The application may be submitted in the Industry Interactive Procurement System (IIPS) by the applicant or a designated representative that receives authorization from the applicant; however, the application documentation must reflect the name and title of the representative authorized to enter the applicant into a legally binding contract or agreement. The applicant or the designated representative must first register in IIPS, entering their first name and last name, then entering the company name/address of the applicant.

For questions regarding the operation of IIPS, contact the IIPS Help Desk at IIPS_HelpDesk@e-center.doe.gov or at (800) 683-0751.

FOR FURTHER INFORMATION CONTACT: Beth H. Dwyer, DOE Golden Field Office, 1617 Cole Boulevard, Golden, CO 80401-3393 or via facsimile to (303) 275-4788, or electronically to beth.dwyer@go.doe.gov.

Issued in Golden, Colorado, on January 26, 2004.
Jerry L. Zimmer,
Director, Office of Acquisition and Financial Assistance.

[FR Doc. 04-2399 Filed 2-4-04; 8:45 am]

BILLING CODE 6450-01-P